DEPARTMENT OF COMMERCE

National Oceanic and Atmospheric Administration

RIN 0648-XC417

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene scoping meetings on addressing issues on regional management of recreational red snapper, including locally optimal management measures, allocation, and regional boundaries.

DATES: The scoping meetings will be held on January 14, 2013 through January 22, 2013 at seven locations throughout the Gulf of Mexico. The scoping meetings will begin at 6 p.m. and will conclude no later than 9 p.m. For specific dates, see SUPPLEMENTARY INFORMATION.

ADDRESSES: The scoping meetings will be held in the following locations: St. Petersburg and Destin, FL; Baton Rouge, LA; Biloxi, MS; Orange Beach, AL; Corpus Christi and LaMarque/Texas City, TX.

Council address: Gulf of Mexico Fishery Management Council, 2203 N. Lois Avenue, Suite 1100, Tampa, FL 33607.

FOR FURTHER INFORMATION CONTACT: Dr. Ava Lasseter, Anthropologist or Dr. Carrie Simmons, Deputy Executive Director; Gulf of Mexico Fishery Management Council; telephone (813) 348-1630.

SUPPLEMENTARY INFORMATION: The Gulf of Mexico Fishery Management Council has scheduled scoping meetings on a proposed amendment addressing issues of regional management of recreational red snapper. Regional management would enable individual Gulf states or groups of states to submit proposals for how each would manage a predetermined portion of the recreational red snapper quota. Public comment will be solicited on locally optimal management measures, regional boundaries and allocation, and other components for the design of regional management proposals including accountability measures, quota monitoring, and enforcement.

The seven scoping meetings will begin at 6 p.m. and conclude at the end of public testimony or no later than 9 p.m. at the following locations:

Monday, January 14, 2013; Holiday Inn Express & Suites, 2440 Gulf Freeway, Texas City, TX 77591, telephone: (409) 986-6700; DoubleTree by Hilton Baton Rouge, 4964 Constitution Avenue, Baton Rouge, LA 70808, telephone: (225) 925-1005.

Tuesday, January 15, 2013; Hilton Garden Inn Corpus Christi, 6717 S. Padre Island Drive, Corpus Christi, TX 78412, telephone: (361) 991-8200; Four Points by Sheraton, 940 Beach Boulevard, Biloxi, MS 39530, telephone: (228) 546-3100.

Wednesday, January 16, 2013; Hilton Garden Inn Orange Beach Beachfront, 23092 Perdido Beach Boulevard, Orange Beach, AL 36561, telephone: (251) 974-1600.

Thursday, January 17, 2013; Destin Community Center, 101 Stahlman Avenue, Destin, FL 32541, telephone: (850) 654-5184.

Tuesday, January 22, 2013; Hilton St. Petersburg Carillon Park, 950 Lake Carillon Drive, St. Petersburg, FL 33716, telephone: (727) 540-0050.

Copies of the scoping document will be available two weeks prior to the first scoping meeting and can be obtained by calling (813) 348-1630, or from the Council Web site at http://www.gulfcouncil.org/fishery_management_plans/scoping-thru-implementation.php.

Special Accommodations

These meetings are physically accessible to people with disabilities. Requests for sign language interpretation or other auxiliary aids should be directed to Kathy Pereira at the Council (see ADDRESSES) at least 5 working days prior to the meeting.

Dated: December 21, 2012.
Tracey L. Thompson,
Acting Deputy Director, Office of Sustainable Fisheries, National Marine Fisheries Service.

[FR Doc. 2012-31149 Filed 12-27-12; 8:45 am]

BILLING CODE 3510-22-P